DEPARTMENT OF STATE

[Public Notice: 6988]

60-Day Notice of Proposed Information Collection: Exchange Programs Alumni Web Site Registration, DS-7006

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Exchange Programs Alumni Web site Registration.

• OMB Control Number: None.

• Type of Request: Existing collection in use without OMB control number.

• Originating Office: Bureau of Educational and Cultural Affairs, ECA-IIP/EX.

• Form Number: DS-7006.

• Respondents: Exchange program alumni and current participants of U.S. government-sponsored exchange programs, Americans who hosted or programmed an exchange participant, or employees of a program agency administering an exchange program.

• Estimated Number of Respondents: 15,000.

• Estimated Number of Responses: 15,000.

• Average Hours Per Response: 10 minutes.

• Total Estimated Burden: 2,500 hours.

• Frequency: One-time per registrant.

• Obligation to Respond: Required to Obtain or Retain a Benefit.

DATES: The Department will accept comments from the public up to 60 days from May 6, 2010.

ADDRESSES: You may submit comments by any of the following methods:

• E-mail: quizonmd@state.gov.

• Mail (paper, disk, or CD-ROM submissions):

Bureau of Educational and Cultural Affairs; U.S. Department of State; SA-5, Room 4-V01; Washington, DC 20522-0504

You must include the DS form number (if applicable), information collection title, and OMB control number in any correspondence.

FOR FURTHER INFORMATION CONTACT: Direct requests for additional information regarding the collection listed in this notice, including requests for copies of the proposed information collection and supporting documents, to Michael Quizon, Program Analyst, ECA-IIP/EX; State Department; SA-5, Room 4-V01; Washington, DC 20522-0504; 202-632-3357; quizonmd@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The State Alumni Web site requires information to process users' voluntary request for participation in the State Alumni Web site. Other than contact information, which is required for Web site registration, all other information is provided on a voluntary basis. Participants also have the option of restricting access to their information.

Respondents to this registration form include: U.S. government-sponsored exchange program participants and alumni, hosts, and guests. Alumni Affairs collects data from users to not only verify their status or participation in a program, but to also connect alumni with other alumni and aid embassy staff in their alumni outreach.

Methodology:

Information provided for registration is collected electronically via the Alumni Web site, alumni.state.gov.

Additional Information:

The registration form is dynamic, presenting certain questions according to the user type. State Alumni is also a secure, encrypted Web site.

Dated: January 25, 2010.
Leslie High,
Acting Director, Office of Policy and Evaluation, Bureau of Educational and Cultural Affairs, U.S. Department of State.

Editorial Note: This document was received in the Office of the Federal Register on Monday May 3, 2010.

[FR Doc. 2010-10719 Filed 5-5-10; 8:45 am]

BILLING CODE 4710-05-P